DEPARTMENT OF ENERGY

10 CFR Part 430

[EERE-2020-BT-STD-0039]

RIN 1904-AF62

Energy Conservation Program: Energy Conservation Standards for Miscellaneous Refrigeration Products

AGENCY: Office of Energy Efficiency and Renewable Energy, Department of Energy.

ACTION: Direct final rule; confirmation of effective and compliance dates; technical correction.

SUMMARY: The U.S. Department of Energy (“DOE”) published a direct final rule to establish new energy conservation standards for miscellaneous refrigeration products in the Federal Register on May 7, 2024. DOE has determined that the comments received in response to the direct final rule are not adverse and, thus, do not provide a reasonable basis for withdrawing the direct final rule. Therefore, DOE provides this document confirming the effective and compliance dates of those standards. This document also corrects an error in the amended regulatory text as it appeared in the direct final rule published on May 7, 2024.

DATES: The technical correction in this document is effective September 30, 2024.

The effective date of September 4, 2024, for the direct final rule published May 7, 2024 (89 FR 38762) is confirmed. Compliance with the standards established in the direct final rule will be required on January 31, 2029.

ADDRESSES: The docket for this rulemaking, which includes Federal Register notices, public meeting attendee lists and transcripts, comments, and other supporting documents/materials, is available for review at www.regulations.gov. All documents in the docket are listed in the www.regulations.gov index. However, not all documents listed in the index may be publicly available, such as information that is exempt from public disclosure.

The docket web page can be found at www.regulations.gov/docket/EERE-2020-BT-STD-0039. The docket web page contains instructions on how to access all documents, including public comments, in the docket.

For further information on how to submit a comment or review other public comments and the docket, contact the Appliance and Equipment Standards Program staff at (202) 287-1445 or by email: ApplianceStandardsQuestions@ee.doe.gov.

FOR FURTHER INFORMATION CONTACT:

Mr. Lucas Adin, U.S. Department of Energy, Office of Energy Efficiency and Renewable Energy, Building Technologies Office, EE-5B, 1000 Independence Avenue SW, Washington, DC 20585-0121. Telephone: (202) 287-5904. Email: ApplianceStandardsQuestions@ee.doe.gov.

Ms. Kristin Koernig, U.S. Department of Energy, Office of the General Counsel, GC-33, 1000 Independence Avenue SW, Washington, DC 20585-0121. Telephone: (202) 586-4789. Email: kristin.koernig@hq.doe.gov.

SUPPLEMENTARY INFORMATION:

Table of Contents

I. Authority

II. Miscellaneous Refrigeration Products Direct Final Rule

A. Background

III. Comments on the Direct Final Rule

A. General Comments

B. Typographical Error Correction

IV. Impact of Any Lessening of Competition

V. Review Under the National Environmental Policy Act of 1969

VI. Conclusion

I. Authority

The Energy Policy and Conservation Act, Public Law 94-163, as amended (“EPCA”),¹ authorizes DOE to issue a direct final rule establishing an energy conservation standard for a product on receipt of a statement submitted jointly by interested persons that are fairly representative of relevant points of view (including representatives of manufacturers of covered products, States, and efficiency advocates), as determined by the Secretary of Energy (“Secretary”), that contains recommendations with respect to an energy or water conservation standard that are in accordance with the provisions of 42 U.S.C. 6295(o) or 42 U.S.C. 6313(a)(6)(B), as applicable. (42 U.S.C. 6295(p)(4))

¹ All references to EPCA in this document refer to the statute as amended through the Energy Act of 2020, Public Law 116-260 (Dec. 27, 2020), which reflect the last statutory amendments that impact parts A and A-1 of EPCA.

The direct final rule must be published simultaneously with a notice of proposed rulemaking (“NOPR”) that proposes an energy or water conservation standard that is identical to the standard established in the direct final rule, and DOE must provide a public comment period of at least 110 days on this proposal. (42 U.S.C. 6295(p)(4)(A)-(B)) Not later than 120 days after issuance of the direct final rule, DOE shall withdraw the direct final rule if: (1) DOE receives one or more adverse public comments relating to the direct final rule or any alternative joint recommendation; and (2) based on the rulemaking record relating to the direct final rule, DOE determines that such adverse public comments or alternative joint recommendation may provide a reasonable basis for withdrawing the direct final rule. (42 U.S.C. 6295(p)(4)(C)) If DOE makes such a determination, DOE must proceed with the NOPR published simultaneously with the direct final rule and publish in the Federal Register the reasons why the direct final rule was withdrawn. (Id.)

After review of the comments received in response to the direct final rule, DOE has determined that it did not receive any adverse comments providing a basis for withdrawal described above for the direct final rule that is the subject of this document. As such, DOE did not withdraw this direct final rule and allowed it to become effective. Although not required under EPCA, where DOE does not withdraw a direct final rule, DOE customarily publishes a summary of the comments received during the 110-day comment period and its responses to those comments. This document contains such a summary, as well as DOE's responses to the comments.

II. Miscellaneous Refrigeration Products Direct Final Rule

A. Background

In a direct final rule published on October 28, 2016, DOE prescribed the current energy conservation standards for miscellaneous refrigeration products (“MREFs”) manufactured on and after October 28, 2019. 81 FR 75194. These standards are set forth in DOE's regulations at 10 CFR 430.32(aa)(1) and (2). These standards are consistent with a negotiated term sheet submitted to DOE by interested parties representing manufacturers, energy and environmental advocates, and consumer groups.²

² The negotiated term sheets are available in docket ID EERE-2011-BT-STD-0043 on www.regulations.gov.

On March 31, 2023, DOE published a NOPR proposing to establish amended standards for MREFs. 88 FR 19382.

On September 25, 2023, DOE received a joint statement (“Joint Agreement”) recommending standards for MREFs that was submitted jointly by groups representing manufacturers, energy and environmental advocates, consumer groups, and a utility.³ In addition to the recommended standards for MREFs, the Joint Agreement also included separate recommendations for several other covered products.⁴ The amended standard levels recommended in the Joint Agreement for MREFs, which are expressed in terms of kilowatt hours per year (“kWh/yr”), are presented in table II.1. Details of the Joint Agreement recommendations for other products are provided in the Joint Agreement posted in the docket for this rulemaking.⁵

³ The signatories to the Joint Agreement include the association of Home Appliance Manufacturers (“AHAM”), American Council for an Energy-Efficient Economy, Alliance for Water Efficiency, Appliance Standards Awareness Project, Consumer Federation of America, Consumer Reports, Earthjustice, National Consumer Law Center, Natural Resources Defense Council, Northwest Energy Efficiency Alliance, and Pacific Gas and Electric Company. Members of AHAM's Major Appliance Division that manufacture the affected products include: Alliance Laundry Systems, LLC; Asko Appliances AB; Beko US Inc.; Brown Stove Works, Inc.; BSH; Danby Products, Ltd.; Electrolux Home Products, Inc.; Elicamex S.A. de C.V.; Faber; Fotile America; GEA, a Haier Company; L'Atelier Paris Haute Design LLG; LGEUSA; Liebherr USA, Co.; Midea America Corp.; Miele, Inc.; Panasonic Appliances Refrigeration Systems (PAPRSA) Corporation of America; Perlick Corporation; Samsung; Sharp Electronics Corporation; Smeg S.p.A; Sub-Zero Group, Inc.; The Middleby Corporation; U-Line Corporation; Viking Range, LLC; and Whirlpool.

⁴ The Joint Agreement contained recommendations for 6 covered products: refrigerators, refrigerator-freezers, and freezers; clothes washers; clothes dryers; dishwashers; cooking products; and miscellaneous refrigeration products.

⁵ The Joint Agreement is available in the docket at: www.regulations.gov/document/EERE-2020-BT-STD-0039-0034.

Table II.1—Recommended Amended Energy Conservation Standards for Miscellaneous Refrigeration Products
Product class | Level (based on AV (ft³)) | Compliance date
1. Freestanding Compact Coolers (FCC) | 5.52AV + 109.1 | January 31, 2029.
2. Freestanding Coolers (FC) | 5.52AV + 109.1 | January 31, 2029.
3. Built-in Compact Coolers (BICC) | 5.52AV + 109.1 | January 31, 2029.
4. Built-in Coolers (BIC) | 6.30AV + 124.6 | January 31, 2029.
C-3A. Cooler with all-refrigerator—automatic defrost | 4.11AV + 117.4 | January 31, 2029.
C-3A-BI. Built-in cooler with all-refrigerator—automatic defrost | 4.67AV + 133.0 | January 31, 2029.
C-5-BI. NEW PRODUCT CLASS: Built-in cooler with refrigerator-freezer—automatic defrost with bottom-mounted freezer | 5.47AV + 196.2 + 28I | January 31, 2029.
C-9. Cooler with upright freezer with automatic defrost without an automatic icemaker | 5.58AV + 147.7 + 28I | January 31, 2029.
C-9-BI. Built-in cooler with upright freezer with automatic defrost without an automatic icemaker | 6.38AV + 168.8 + 28I | January 31, 2029.
C-13A. Compact cooler with all-refrigerator—automatic defrost | 4.74AV + 155.0 | January 31, 2029.
C-13A-BI. Built-in compact cooler with all-refrigerator—automatic defrost | 5.22AV + 170.5 | January 31, 2029.
AV = Total adjusted volume, expressed in ft³, as determined in appendices A and B of subpart B of 10 CFR part 430.
I = 1 for a product with an automatic icemaker and = 0 for a product without an automatic icemaker.

After carefully considering the recommended energy conservation standards for MREFs in the Joint Agreement, DOE determined that these recommendations were in accordance with the statutory requirements of 42 U.S.C. 6295(p)(4) for the issuance of a direct final rule and published a direct final rule on May 7, 2024 (“May 2024 Direct Final Rule”). 89 FR 38762. DOE evaluated whether the Joint Agreement satisfies 42 U.S.C. 6295(o), as applicable, and found that the recommended standard levels would result in significant energy savings and are technologically feasible and economically justified. Id. at 89 FR 38763-38770. Accordingly, DOE adopted the recommended efficiency levels for MREFs as the amended standard levels in the May 2024 Direct Final Rule. Id. at 89 FR 38828.

The standards adopted in the May 2024 Direct Final Rule apply to product classes listed in table II.2 and manufactured in, or imported into, the United States starting on January 31, 2029. The May 2024 Direct Final Rule provides a detailed discussion of DOE's analysis of the benefits and burdens of the amended standards pursuant to the criteria set forth in EPCA. Id. at 89 FR 38803-38831.

Table II.2—Energy Conservation Standards for MREFs
[Compliance starting January 31, 2029] ⁶
Product class (“PC”) | Equations for maximum energy use (kWh/yr): Based on AV (ft³)
1. Freestanding Compact Coolers (FCC) | 5.52AV + 109.1.
2. Freestanding Coolers (FC) | 5.52AV + 109.1.
3. Built-in Compact Coolers (BICC) | 5.52AV + 109.1.
4. Built-in Coolers (BIC) | 6.30AV + 124.6.
C-3A. Cooler with all-refrigerator—automatic defrost | 4.11AV + 117.4.
C-3A-BI. Built-in cooler with all-refrigerator—automatic defrost | 4.67AV + 133.0.
C-5-BI. Built-in cooler with refrigerator-freezer—automatic defrost with bottom-mounted freezer | 5.47AV + 196.2 + 28I.
C-9. Cooler with upright freezer with automatic defrost | 5.58AV + 147.7 + 28I.
C-9-BI. Built-in cooler with upright freezer with automatic defrost | 6.38AV + 168.8 + 28I.
C-13A. Compact cooler with all-refrigerator—automatic defrost | 4.74AV + 155.0.
C-13A-BI. Built-in compact cooler with all-refrigerator—automatic defrost | 5.22AV + 170.5.
AV = Total adjusted volume, expressed in ft³, as determined in appendices A and B of subpart B of 10 CFR part 430.
I = 1 for a product with an automatic icemaker and = 0 for a product without an automatic icemaker.

As required by EPCA, DOE also simultaneously published a NOPR proposing the identical standard levels contained in the May 2024 Direct Final Rule. 89 FR 38803. DOE then considered whether any comment received during the 110-day comment period following the publication of the May 2024 Direct Final Rule was adverse and provided a reasonable basis for withdrawal of the direct final rule under the provisions in 42 U.S.C. 6295(p)(4)(C).

⁶ This table corrects typographical errors in the May 2024 Direct Final Rule in the product class descriptions for product classes C-9 and C-9-BI, as discussed further in section III.B of this document.

III. Comments on the Direct Final Rule

As discussed in section I of this document, not later than 120 days after publication of a direct final rule, DOE shall withdraw the direct final rule if: (1) DOE receives one or more adverse public comments relating to the direct final rule or any alternative joint recommendation; and (2) based on the rulemaking record relating to the direct final rule, DOE determines that such adverse public comments or alternative joint recommendation may provide a reasonable basis for withdrawing the direct final rule. (42 U.S.C. 6295(p)(4)(C)(i))

DOE received comments in response to the May 2024 Direct Final Rule from the interested parties listed in table III.1.

Table III.1—List of Commenters With Written Submissions in Response to the May 2024 Direct Final Rule
Commenter(s) | Abbreviation | Comment No. in the docket | Commenter type
Clean Future | Clean Future | 44 | Efficiency Advocate.
Appliance Standards Awareness Project, American Council for an Energy-Efficient Economy, Consumer Federation of America, Consumer Reports, Earthjustice, National Consumer Law Center, Natural Resources Defense Council, Northwest Energy Efficiency Alliance, and Pacific Gas and Electric Company | ASAP et al | 45 | Advocacy Organizations, Utilities.
Association of Home Appliance Manufacturers | AHAM | 46 | Trade Association.

A parenthetical reference at the end of a comment quotation or paraphrase provides the location of the item in the public record.⁷ The following sections discuss the substantive comments DOE received on the May 2024 Direct Final Rule as well as DOE's determination that the comments are not adverse and thus do not provide a reasonable basis for withdrawal of the direct final rule.

⁷ The parenthetical reference provides a reference for information located in the docket of DOE's rulemaking to develop energy conservation standards for MREFs. (Docket No. EERE-2020-BT-STD-0039, which is maintained at: www.regulations.gov). The references are arranged as follows: (commenter name, comment docket ID number at page of that document).

A. General Comments

AHAM and ASAP et al. expressed support for the May 2024 Direct Final Rule for MREFs because the May 2024 Direct Final Rule establishes standards that are consistent with recommendations submitted in the Joint Agreement. (AHAM, No. 46 at pp. 1-4, 8; ASAP et al., No. 45 at pp. 1-2) ASAP et al. stated that they supported the price learning methodology in the analysis for the May 2024 Direct Final Rule and they do not expect the standards for MREFs to have any impact on product reliability. (ASAP et al., No. 45 at pp. 2-3)

AHAM further commented that the May 2024 Direct Final Rule standards meet the statutory criteria for amending standards set forth in 42 U.S.C. 6295(o) and that DOE has satisfied the criteria for issuing a direct final rule. (AHAM, No. 46 at pp. 4-6) AHAM supported the compliance dates adopted in the May 2024 Direct Final Rule and DOE's commitment in the May 2024 Direct Final Rule to consider the processes by which DOE analyzes energy and water conservation standards in a separate rulemaking considering all product categories. (Id. at p. 6)

Clean Future also expressed support for the amended standards adopted by the May 2024 Direct Final Rule. (Clean Future, No. 44 at p. 1)

B. Typographical Error Correction

AHAM identified a typographical error in the table of amended standards published in the May 2024 Direct Final Rule. DOE adopted consolidated product classes in the table of amended standards at 10 CFR 430.32(aa)(2) but did not remove the descriptive words “without an automatic icemaker” in the descriptions of product classes C-9 and C-9-BI. (AHAM, No. 46 at p. 7)

DOE acknowledges that the description as currently found in the May 2024 Direct Final Rule inadvertently included the descriptive words “without an automatic icemaker” in the descriptions of product classes C-9 and C-9-BI. Indeed, as referenced by AHAM, the May 2024 Direct Final Rule adopted consolidated product classes that incorporate icemaker energy adders into the energy use equations for which they are applicable, rather than defining separate product classes with and without icemakers, as is done for the current energy conservation standards codified at 10 CFR 430.32(aa)(2). See 89 FR 38762, 38776-38777. This document corrects the typographical error identified by AHAM and removes the unnecessary words “without an automatic icemaker” from the product class descriptions for product classes C-9 and C-9-BI.

In correcting the descriptions of product classes C-9 and C-9-BI in this confirmation document, DOE is aligning the product class description with the intent of the May 2024 Direct Final Rule to adopt consolidated product classes that incorporate icemaker energy adders into the energy use equations for which they are applicable, rather than defining separate product classes with and without icemakers. See id. Because this amendment is a clarifying correction and makes no substantive changes to the May 2024 Direct Final Rule, the changes addressed in this document are technical in nature.

DOE has concluded that the determinations made pursuant to the various procedural requirements applicable to the May 2024 Direct Final Rule remain unchanged for this final rule technical correction. These determinations are set forth in the May 2024 Direct Final Rule. Id. at 89 FR 38831-38834.

Pursuant to the Administrative Procedure Act, 5 U.S.C. 553(b)(3)(B), DOE finds that there is good cause to not issue a separate request to solicit public comment on the changes contained in this document. Issuing a separate request to solicit public comment would be impracticable, unnecessary, and contrary to the public interest. Neither the errors nor the corrections in this document affect the substance of the May 2024 Direct Final Rule or any of the conclusions reached in support of the direct final rule. Providing prior notice and an opportunity for public comment on correcting objective, typographical errors that do not change the substance of the energy conservation standards serves no useful purpose.

Further, this rule correcting a regulatory text error makes non-substantive changes to the product classes subject to the energy conservation standards. As such, this rule is not subject to the 30-day delay in effective date requirement of 5 U.S.C. 553(d) otherwise applicable to rules that make substantive changes.

IV. Impact of Any Lessening of Competition

EPCA directs DOE to consider any lessening of competition that is likely to result from new or amended standards. (42 U.S.C. 629(p)(4)(A)(i) and (C)(i)(II); 42 U.S.C. 6295(o)(2)(B)(i)(V)) It also directs the Attorney General of the United States (“Attorney General”) to determine the impact, if any, of any lessening of competition likely to result from a proposed standard and to transmit such determination to the Secretary within 60 days of the publication of a proposed rule, together with an analysis of the nature and extent of the impact. (42 U.S.C. 6295(o)(2)(B)(i)(V) and (B)(ii)) To assist the Attorney General in making this determination, DOE provided the Department of Justice (“DOJ”) with copies of the May 2024 Direct Final Rule, the corresponding NOPR, and the May 2024 Direct Final Rule TSD for review. DOE has published DOJ's comments at the end of this document.

In its letter responding to DOE, DOJ concluded that, based on its review, it is unlikely that the proposed energy conservation standards for MREFs would have a significant adverse impact on competition.

V. Review Under the National Environmental Policy Act of 1969

Pursuant to the National Environmental Policy Act of 1969 (“NEPA”), DOE had analyzed the direct final rule in accordance with NEPA and DOE's NEPA implementing regulations (10 CFR part 1021). DOE has determined that this rule qualifies for categorical exclusion under 10 CFR part 1021, subpart D, appendix B5.1 because it is a rulemaking that establishes energy conservation standards for consumer products or industrial equipment, none of the exceptions identified in B5.1(b) apply, no extraordinary circumstances exist that require further environmental analysis, and it meets the requirements for application of a categorical exclusion. See 10 CFR 1021.410. Therefore, DOE has determined that promulgation of this direct final rule is not a major Federal action significantly affecting the quality of the human environment within the meaning of NEPA and does not require an environmental assessment or an environmental impact statement.

VI. Conclusion

In summary, based on the previous discussion, DOE has determined that it did not receive any adverse comments in response to the direct final rule for amended energy conservation standards for MREFs. As a result, the energy conservation standards set forth in the direct final rule became effective on September 4, 2024. Compliance with these standards is required on and after January 31, 2029.

Signing Authority

This document of the Department of Energy was signed on September 20, 2024, by Jeffrey Marootian, Principal Deputy Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on September 23, 2024.

List of Subjects in 10 CFR Part 430

Administrative practice and procedure, Confidential business information, Energy conservation, Household appliances, Imports, Intergovernmental relations, Reporting and recordkeeping requirements, Small businesses.

Treena V. Garrett,
Federal Register Liaison Officer, U.S. Department of Energy.

For the reasons set forth in the preamble, DOE amends part 430 of chapter II, subchapter D, of title 10 of the Code of Federal Regulations, by making the following technical correction:

PART 430—ENERGY CONSERVATION PROGRAM FOR CONSUMER PRODUCTS

1. The authority citation for part 430 continues to read as follows:

Authority: 42 U.S.C. 6291-6309; 28 U.S.C. 2461 note.

2. Amend § 430.32 by revising paragraph (aa)(2)(ii) to read as follows:

§ 430.32 Energy and water conservation standards and their compliance dates.

* * * * *

(aa) * * *

(2) * * *

(ii) Combination cooler refrigeration products manufactured on or after January 31, 2029, shall have an Annual Energy Use (AEU) no more than:

Product class | AEU (kWh/yr)
C-3A. Cooler with all-refrigerator—automatic defrost | 4.11AV + 117.4.
C-3A-BI. Built-in cooler with all-refrigerator—automatic defrost | 4.67AV + 133.0.
C-5-BI. Built-in cooler with refrigerator-freezer with automatic defrost with bottom-mounted freezer | 5.47AV + 196.2 + 28I.
C-9. Cooler with upright freezer with automatic defrost | 5.58AV + 147.7 + 28I.
C-9-BI. Built-in cooler with upright freezer with automatic defrost | 6.38AV + 168.8 + 28I.
C-13A. Compact cooler with all-refrigerator—automatic defrost | 4.74AV + 155.0.
C-13A-BI. Built-in compact cooler with all-refrigerator—automatic defrost | 5.22AV + 170.5.
AV = Total adjusted volume, expressed in ft³, as determined in appendix A to subpart B of this part.
I = 1 for a product with an automatic icemaker and = 0 for a product without an automatic icemaker.

* * * * *

Note: The following appendix will not appear in the Code of Federal Regulations.

Appendix A

July 9, 2024

Ami Grace-Tardy

Assistant General Counsel for Legislation, Regulation and Energy Efficiency

U.S. Department of Energy

Washington, DC 20585

Ami.Grace-Tardy@hq.doe.gov

Re: Conservation Standards for Miscellaneous Refrigeration Products DOE Docket No. EERE-2020-BT-STD-0039

Dear Assistant General Counsel Grace-Tardy:

I am responding to your May 10, 2024, letter seeking the views of the Attorney General about the potential impact on competition of proposed energy conservation standards for miscellaneous refrigeration products (MREFs).

Your request was submitted under Section 325(o)(2)(B)(i)(V) of the Energy Policy and Conservation Act, as amended (ECPA), 42 U.S.C. 6295(o)(2)(B)(i)(V), which requires the Attorney General to make a determination of the impact of any lessening of competition that is likely to result from the imposition of proposed energy conservation standards. The Attorney General's responsibility for responding to requests from other departments about the effect of a program on competition has been delegated to the Assistant Attorney General for the Antitrust Division in 28 CFR 0.40(g). The Assistant Attorney General for the Antitrust Division has authorized me, as the Policy Director for the Antitrust Division, to provide the Antitrust Division's views regarding the potential impact on competition of proposed energy conservation standards on his behalf.

In conducting its analysis, the Antitrust Division examines whether a proposed standard may lessen competition, for example, by substantially limiting consumer choice, by placing certain manufacturers at an unjustified competitive disadvantage, or by inducing avoidable inefficiencies in production or distribution of particular products. A lessening of competition could result in higher prices to manufacturers and consumers.

We have reviewed the proposed standards contained in the Notice of Proposed Rulemaking (89 FR 37987, May 7, 2024), the Direct Final Rule (89 FR 38762, May 7, 2024), and the related Technical Support Documents (TSD) that accompanied them. We have also reviewed the Docket and noted that, as of July 9, 2024, no public comments had been filed in response to the Notice of Proposed Rulemaking or the Direct Final Rule.

Based on this review, our conclusion is that the proposed energy conservation standards for MREFs are unlikely to have a significant adverse impact on competition.

Sincerely,

/s/

David G.B. Lawrence,

Policy Director.

[FR Doc. 2024-22131 Filed 9-27-24; 8:45 am]

BILLING CODE 6450-01-P